NATIONAL AERONAUTICS AND SPACE ADMINISTRATION

[Notice (11-029)]

NASA Advisory Council; Information Technology Infrastructure Committee; Meeting

AGENCY: National Aeronautics and Space Administration.

ACTION: Notice of Meeting.

SUMMARY: In accordance with the Federal Advisory Committee Act, Public Law 92-463, as amended, the National Aeronautics and Space Administration announces a meeting for the Information Technology Infrastructure Committee of the NASA Advisory Council (NAC). This Committee reports to the NAC.

DATES: Tuesday, April 26, 2011, 8:30 a.m.-5:30 p.m., Local Time. Meet-Me-Number: 1-877-613-3958; #2939943.

ADDRESSES: NASA Goddard Space Flight Center, 8800 Greenbelt Road, Building 12, Room C100D, Greenbelt, MD 20771.

FOR FURTHER INFORMATION CONTACT: Ms. Tereda J. Frazier, Executive Secretary for the Information Technology Infrastructure Committee, National Aeronautics and Space Administration Headquarters, Washington, DC 20546, (202) 358-2595.

SUPPLEMENTARY INFORMATION: The topics of discussion for the meeting are the following:

• Computing Environment—Diverse Needs and Solutions

• Network Environment and Mission Network Support

• IT Security Risk Management

• Ethics Briefing

• IT Committee Work Plan Actions/Assignments/Logistics

The meeting will be open to the public up to the seating capacity of the room. It is imperative that these meetings be held on this date to accommodate the scheduling priorities of the key participants. Visitors will need to show a valid picture identification such as a driver's license to enter the NASA Goddard Space Flight Center and must state that they are attending the NASA Advisory Council Information Technology Infrastructure Committee meeting in Building 12, Room C100D. All non-U.S. citizens must fax a copy of their passport, and print or type their name, current address, citizenship, company affiliation (if applicable) to include address, telephone number, and their title, place of birth, date of birth, U.S. visa information to include type, number and expiration date, U.S. Social Security Number (if applicable), and place and date of entry into the U.S., to Ms. Tereda J. Frazier, Executive Secretary, Information Technology Infrastructure Committee, NASA Advisory Council, at e-mail tereda.j.frazier@nasa.gov or by telephone at (202) 358-2595 by no later than April 19, 2011. To expedite admittance, attendees with U.S. citizenship can provide identifying information 3 working days in advance by contacting Ms. Tereda J. Frazier via e-mail at tereda.j.frazier@nasa.gov or by telephone at 202-358-2595. Persons with disabilities who require assistance should indicate this.

Dated: March 29, 2011.
P. Diane Rausch,
Advisory Committee Management Officer, National Aeronautics and Space Administration.

[FR Doc. 2011-7952 Filed 4-4-11; 8:45 am]

BILLING CODE 7510-13-P